ENVIRONMENTAL PROTECTION AGENCY

40 CFR Part 52

[MD167-3112a; FRL-7804-4]

Approval and Promulgation of Air Quality Implementation Plans; Maryland; VOC RACT for Kaydon Ring and Seal, Inc.

AGENCY: Environmental Protection Agency (EPA).

ACTION: Direct final rule.

SUMMARY: EPA is taking direct final action to approve revisions to the Maryland State Implementation Plan (SIP). The revisions pertain to a Consent Order establishing volatile organic compound (VOC) reasonably available control technology (RACT) for Kaydon Ring and Seal, Incorporated. EPA is approving these revisions in accordance with the requirements of the Clean Air Act (CAA).

DATES: This rule is effective on November 1, 2004 without further notice, unless EPA receives adverse written comment by September 30, 2004. If EPA receives such comments, it will publish a timely withdrawal of the direct final rule in the Federal Register and inform the public that the rule will not take effect.

ADDRESSES: Submit your comments, identified by MD167-3112 by one of the following methods:

A. Federal eRulemaking Portal: http://www.regulations.gov. Follow the on-line instructions for submitting comments.

B. E-mail: morris.makeba@epa.gov.

C. Mail: Makeba Morris, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. MD167-3112. EPA's policy is that all comments received will be included in the public docket without change, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and Maryland Department of the Environment (MDE), 1800 Washington Boulevard, Suite 705, Baltimore, Maryland 21230.

FOR FURTHER INFORMATION CONTACT: Rose Quinto, (215) 814-2182, or by e-mail at quinto.rose@epa.gov.

SUPPLEMENTARY INFORMATION:

I. Background

On March 31, 2004, the State of Maryland submitted a formal revision to its State Implementation Plan (SIP). The SIP revision consists of a Consent Order establishing VOC RACT for Kaydon Ring and Seal, Incorporated (Kaydon) located at 1600 Wicomico Street in Baltimore, Maryland.

II. Summary of SIP Revision

Kaydon operates a piston ring manufacturing facility which includes over 300 small machining and fabricating operations, e.g., cutting, grinding, milling, polishing and lapping operations. The machining and fabricating operations are distributed over 18 manufacturing cells that often require several applications of a rust preventive material and several applications of naphtha as a cleaning agent. The manufacturing processes consist of hundreds of naphtha pans located throughout the facility's product manufacturing cells. These pans are the main source of VOC emissions at the facility, causing the facility to be a VOC major source.

The facility has identified and implemented the following VOC RACT measures in order to reduce naphtha emissions from the facility:

1. Elimination of all small open top naphtha pans and reduction of the number of naphtha pans in use;

2. Development of standard operating procedures and employee training to increase the retention time of parts in the naphtha pans allowing all excess naphtha pans to drip back into the pans;

3. Development and implementation of written good operating practices for the handling, transfer, storage and recovery of naphtha;

4. Incorporation of the good operating practices into the facility's procedures manual;

5. Installation of properly sealed covers on all remaining naphtha pans and implementation of procedures to ensure that covers are closed on all naphtha pans which are not in use; and

6. Modification of its operations and relocation of the equipment in each product manufacturing cell to minimize the number of naphtha pans and the number of cleaning operations.

These actions have reduced emissions by approximately 20 tons per year or less than 100 pounds per 1000 piston rings produced. According to the Consent Order, Kaydon shall maintain compliance with the VOC RACT measures which have been implemented to date. In addition, Kaydon shall reduce the number of naphtha pans in use to not more than 185 by no later than July 1, 2003; and limit emissions of naphtha to a monthly average of not more than 90 pounds per 1000 piston rings manufactured by July 1, 2003. Compliance shall be demonstrated using actual monthly production of piston rings and a six-month average naphtha use. Kaydon shall maintain, and update as necessary, the good operating practices included in the facility's procedures manual and make available to MDE for inspection upon request. Kaydon shall also maintain records on piston rings manufactured and naphtha use, and calculations showing that the emission limit was achieved. The records should be made available for review by MDE upon request. Finally, Kaydon shall submit to MDE for approval a proposed format for piston ring production and naphtha consumption records following the execution of this Consent Order and maintain the records on site for at least five years.

III. Final Action

EPA is approving the Consent Order establishing VOC RACT for Kaydon Ring and Seal, Inc. located in Baltimore, Maryland submitted on March 31, 2004. EPA is approving this SIP submittal because MDE established and imposed requirements in accordance with the criteria set forth in SIP-approved regulations for imposing RACT. MDE has also imposed recordkeeping, monitoring, and testing requirements on this source sufficient to determine compliance with these requirements.

EPA is publishing this rule without prior proposal because the Agency views this as a noncontroversial amendment and anticipates no adverse comment. However, in the “Proposed Rules” section of today's Federal Register, EPA is publishing a separate document that will serve as the proposal to approve the SIP revision if adverse comments are filed. This rule will be effective on November 1, 2004 without further notice unless EPA receives adverse comment by September 30, 2004. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for one named source.

C. Petitions for Judicial Review

Under section 307(b)(1) of the Clean Air Act, petitions for judicial review of this action must be filed in the United States Court of Appeals for the appropriate circuit by November 1, 2004. Filing a petition for reconsideration by the Administrator of this final rule does not affect the finality of this rule for the purposes of judicial review nor does it extend the time within which a petition for judicial review may be filed, and shall not postpone the effectiveness of such rule or action.

This action, pertaining to a Consent Order establishing VOC RACT for Kaydon Ring and Seal, Incorporated located in Baltimore, Maryland, may not be challenged later in proceedings to enforce its requirements. (See section 307(b)(2).)

List of Subjects in 40 CFR Part 52

Environmental protection, Incorporation by reference, Ozone, Reporting and recordkeeping requirements, Volatile organic compounds.

Dated: August 16, 2004.
Richard J. Kampf,
Acting Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(190) to read as follows:

§ 52.1070 Identification of plan.

* * * * *

(c) * * *

(190) Revisions to the Maryland State Implementation Plan submitted on March 31, 2004 by the Maryland Department of the Environment:

(i) Incorporation by reference.

(A) Letter of March 31, 2004 from the Maryland Department of the Environment transmitting a Consent Order establishing VOC RACT for Kaydon Ring and Seal, Inc.

(B) Consent Order establishing VOC RACT for Kaydon Ring and Seal, Inc. with an effective date of March 5, 2004.

(ii) Additional Material.—Remainder of the State submittal pertaining to the revisions listed in paragraph (c)(190)(i) of this section.

[FR Doc. 04-19820 Filed 8-30-04; 8:45 am]

BILLING CODE 6560-50-M